DEPARTMENT OF ENERGY

Federal Energy Regulatory Commission

Combined Notice of Filings #1

April 1, 2010.

Take notice that the Commission received the following electric corporate filings:

Docket Numbers: EC10-57-000.

Applicants: Ameren Energy Generating Company.

Description: Application of Ameren Energy Generating Co. Pursuant to Section 203 of the Federal Power Act and Request for Expedited Consideration and Approval by June 1, 2010.

Filed Date: 04/01/2010.

Accession Number: 20100401-5121.

Comment Date: 5 p.m. Eastern Time on Thursday, April 22, 2010.

Take notice that the Commission received the following electric rate filings:

Docket Numbers: ER10-969-000.

Applicants: Westar Energy, Inc.

Description: Westar Energy Inc submits an executed Cost-Based Agreement for Wholesale Power Sales Service.

Filed Date: 03/31/2010.

Accession Number: 20100331-0242.

Comment Date: 5 p.m. Eastern Time on Wednesday, April 21, 2010.

Docket Numbers: ER10-977-000.

Applicants: Tilton Energy LLC.

Description: Tilton Energy LLC submits the Black Start Service Agreement with Illinois Power Company.

Filed Date: 03/31/2010.

Accession Number: 20100401-0233.

Comment Date: 5 p.m. Eastern Time on Wednesday, April 21, 2010.

Docket Numbers: ER10-978-000.

Applicants: Wolverine Power Supply Cooperative, Inc.

Description: Wolverine Power Supply Cooperative, Inc submits Original Sheet 1 to FERC Electric Tariff, Original Volume 3 and supporting cost data, effective April 1, 2010.

Filed Date: 03/31/2010.

Accession Number: 20100401-0234.

Comment Date: 5 p.m. Eastern Time on Wednesday, April 21, 2010.

Docket Numbers: ER10-979-000.

Applicants: Southwest Power Pool, Inc.

Description: Southwest Power Pool, Inc submits an executed Service Agreement for the Resale, Reassignment to Transfer of Point-to-Point Transmission Service with Kansas City Power & Light Co.

Filed Date: 03/31/2010.

Accession Number: 20100401-0235.

Comment Date: 5 p.m. Eastern Time on Wednesday, April 21, 2010.

Docket Numbers: ER10-980-000.

Applicants: Midwest Independent Transmission System Operator, Inc.

Description: Midwest Independent Transmission System Operator, Inc. submits proposed revisions to its Open Access Transmission, Energy and Operating Reserve Markets Tariff.

Filed Date: 03/31/2010.

Accession Number: 20100401-0236.

Comment Date: 5 p.m. Eastern Time on Wednesday, April 21, 2010.

Docket Numbers: ER10-981-000.

Applicants: Montana Alberta Tie Ltd.

Description: Montana Alberta Tie Ltd et al submits revisions to the MATL LLP FERC Electric Tariff, Second Revised Volume 2, to be effective April 1, 2010.

Filed Date: 03/31/2010.

Accession Number: 20100401-0237.

Comment Date: 5 p.m. Eastern Time on Wednesday, April 21, 2010.

Docket Numbers: ER10-982-000.

Applicants: New York Independent System Operator, Inc.

Description: New York Independent System Operator, Inc submits proposed amendments to its Open Access Transmission Tariff and Market Administration and Control Area Services Tariff etc.

Filed Date: 03/31/2010.

Accession Number: 20100401-0243.

Comment Date: 5 p.m. Eastern Time on Wednesday, April 21, 2010.

Docket Numbers: ER10-983-000.

Applicants: Entergy Services, Inc.

Description: Entergy Operating Companies submits the Amended Network Integration Transmission Service Agreement No 325 with the City of North Little Rock, Arkansas etc.

Filed Date: 03/31/2010.

Accession Number: 20100401-0241.

Comment Date: 5 p.m. Eastern Time on Wednesday, April 21, 2010.

Docket Numbers: ER10-984-000.

Applicants: Entergy Services, Inc.

Description: Entergy Operating Companies submits amendments to their Open Access Transmission Tariff to amend Attachment H and Schedule 7 of their OATT.

Filed Date: 03/31/2010.

Accession Number: 20100401-0238.

Comment Date: 5 p.m. Eastern Time on Wednesday, April 21, 2010.

Docket Numbers: ER10-985-000.

Applicants: Entergy Services, Inc.

Description: Entergy Operating Companies submits the Dynamic Transfer Operating Agreements, Service Agreement No 564, 565, 566, 567 and 585 under FERC Electric Tariff, Third Revised Volume No 3 with ESI, Oxy and Benton et al.

Filed Date: 03/31/2010.

Accession Number: 20100401-0239.

Comment Date: 5 p.m. Eastern Time on Wednesday, April 21, 2010.

Docket Numbers: ER10-986-000.

Applicants: Entergy Arkansas, Inc.

Description: Entergy Arkansas, Inc submits the 41st Amendment to the Power Coordination, Interchange and Transmission Service Agreement with Arkansas Electric Cooperative Corp, First Revised Rate Schedule 82.

Filed Date: 03/31/2010.

Accession Number: 20100401-0240.

Comment Date: 5 p.m. Eastern Time on Wednesday, April 21, 2010.

Docket Numbers: ER10-987-000.

Applicants: Entergy Services, Inc.

Description: Entergy Services Inc submits Notices of Termination of First Revised Service Agreement No. 466,509 et al. pursuant to the filing requirements set forth in Order No. 614.

Filed Date: 03/31/2010.

Accession Number: 20100401-0242.

Comment Date: 5 p.m. Eastern Time on Wednesday, April 21, 2010.

Docket Numbers: ER10-988-000.

Applicants: Central Maine Power Company.

Description: Central Maine Power Company submits Engineering and Procurement Agreement dated 1/20/09 with Record Hill Wind, LLC designated as Original Service Agreement etc.

Filed Date: 03/26/2010.

Accession Number: 20100326-0211.

Comment Date: 5 p.m. Eastern Time on Friday, April 16, 2010.

Take notice that the Commission received the following open access transmission tariff filings:

Docket Numbers: OA08-100-003.

Applicants: Duke Energy Carolinas, LLC.

Description: 2009 Penalty Distribution Report of Duke Energy Carolinas, LLC.

Filed Date: 04/01/2010.

Accession Number: 20100401-5106.

Comment Date: 5 p.m. Eastern Time on Thursday, April 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-8089 Filed 4-8-10; 8:45 am]

BILLING CODE 6717-01-P